DEPARTMENT OF TRANSPORTATION

Federal Transit Administration

FY 2024 Competitive Funding Opportunity: Public Transportation on Indian Reservations Program; Tribal Transit Program

AGENCY: Federal Transit Administration (FTA), Department of Transportation (DOT).

ACTION: Notice of funding opportunity (NOFO).

SUMMARY: The Federal Transit Administration (FTA) announces the opportunity to apply for $9,169,076 in competitive grants for the Fiscal Year (FY) 2024 Public Transportation on Indian Reservations (Tribal Transit) Program.

DATES: Complete proposals must be submitted electronically through the GRANTS.GOV “APPLY” function by 11:59 p.m. Eastern time November 13, 2024.

FOR FURTHER INFORMATION CONTACT: Elan Flippin-Jones, Office of Program Management, (202) 366-3800 or email TribalTransit@dot.gov. A TDD is available at 1-800-877-8339 (TDD/FIRS).

SUPPLEMENTARY INFORMATION: The full text of the Notice of Funding Opportunity (NOFO) can be found on FTA's website at https://www.transit.dot.gov/funding/grants/notices and in the “FIND” module of GRANTS.GOV. The funding opportunity ID is FTA-2024-012-TPM-TRTR. Mail and fax submissions will not be accepted.

Veronica Vanterpool,
Acting Administrator.

[FR Doc. 2024-18239 Filed 8-14-24; 8:45 am]

BILLING CODE 4910-57-P